DEPARTMENT OF TRANSPORTATION

Federal Aviation Administration

14 CFR Part 39

[Docket No. FAA-2004-19444; Directorate Identifier 2004-CE-33-AD]

RIN 2120-AA64

Airworthiness Directives; Pacific Aerospace Corporation, Ltd. Model 750XL Airplanes

AGENCY: Federal Aviation Administration (FAA), DOT.

ACTION: Notice of proposed rulemaking (NPRM).

SUMMARY: The FAA proposes to adopt a new airworthiness directive (AD) for all Pacific Aerospace Corporation, Ltd. (Pacific Aerospace) Model 750XL airplanes. This proposed AD would require you to replace any type TLP-D or TLED rivets on the aileron pushrod ends and elevator control pushrod ends. This proposed AD results from mandatory continuing airworthiness information (MCAI) issued by the airworthiness authority for New Zealand. We are issuing this proposed AD to replace the above identified rivets on the aileron pushrod ends and elevator control pushrod ends, which, if not replaced, could result in loose mechanical elements in the control systems. This could lead to control anomalies and loss of airplane control.

DATES: We must receive any comments on this proposed AD by December 27, 2004.

ADDRESSES: Use one of the following to submit comments on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: 1-202-493-2251.

• Hand Delivery: Room PL-401 on the plaza level of the Nassif Building, 400 Seventh Street, SW., Washington, DC, between 9 a.m. and 5 p.m., Monday through Friday, except Federal holidays.

To get the service information identified in this proposed AD, contact Pacific Aerospace Corporation, Ltd., Hamilton Airport, Private Bag HN 3027, Hamilton, New Zealand; telephone: 64 7 843 6144; facsimile: 64 7 843 6134.

To view the comments to this proposed AD, go to http://dms.dot.gov. This is docket number FAA-2004-19444.

FOR FURTHER INFORMATION CONTACT: Karl Schletzbaum, Aerospace Engineer, Small Airplane Directorate, 901 Locust, Room 302, Kansas City, MO 64106; telephone: (816) 329-4146; facsimile: (816) 329-4090.

SUPPLEMENTARY INFORMATION:

Comments Invited

How do I comment on this proposed AD? We invite you to submit any written relevant data, views, or arguments regarding this proposal. Send your comments to an address listed under ADDRESSES. Include the docket number, “FAA-2004-19444; Directorate Identifier 2004-CE-33-AD” at the beginning of your comments. We will post all comments we receive, without change, to http://dms.dot.gov, including any personal information you provide. We will also post a report summarizing each substantive verbal contact with FAA personnel concerning this proposed rulemaking. Using the search function of our docket Web site, anyone can find and read the comments received into any of our dockets, including the name of the individual who sent the comment (or signed the comment on behalf of an association, business, labor union, etc.). This is docket number FAA-2004-19444. You may review the DOT's complete Privacy Act Statement in the Federal Register published on April 11, 2000 (65 FR 19477-78) or you may visit http://dms.dot.gov.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Docket Information

Where can I go to view the docket information? You may view the AD docket that contains the proposal, any comments received, and any final disposition in person at the DMS Docket Offices between 9 a.m. and 5 p.m. (eastern standard time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Discussion

What events have caused this proposed AD? The Civil Aviation Authority (CAA), which is the airworthiness authority for New Zealand, recently notified FAA that an unsafe condition may exist on all Pacific Aerospace Corporation, Ltd. (Pacific Aerospace) Model 750XL airplanes. The CAA reports occurrences of loose type TLP-D or TLED rivets on the aileron pushrod ends and elevator control pushrod ends on Model 750XL airplanes in service in New Zealand.

What is the potential impact if FAA took no action? Any type TLP-D or TLED rivets on the aileron pushrod ends and elevator control pushrod ends could result in loose mechanical elements in the control systems. This could lead to control anomalies and loss of airplane control.

Is there service information that applies to this subject? Pacific Aerospace has issued Mandatory Service Bulletin No. PACSB/XL/007, dated June 22, 2004.

What are the provisions of this service information? The service bulletin includes procedures for:

—Inspecting for any type TLP-D or TLED rivets on the aileron pushrod ends and elevator control pushrod ends; and

—Replacing any type TLP-D or TLED rivets found on the aileron pushrod ends and elevator control pushrod ends with new Cherry Max 3213-4-2 or 3243-4-2 (oversize nominal ⅛-inch) rivets.

What action did the CAA take? The CAA classified this service bulletin as mandatory and issued New Zealand AD Number DCA/40XL/1, dated June 24, 2004, to ensure the continued airworthiness of these airplanes in New Zealand.

Did the CAA inform the United States under the bilateral airworthiness agreement? These Pacific Aerospace Model 750XL airplanes are manufactured in New Zealand and are type-certificated for operation in the United States under the provisions of section 21.29 of the Federal Aviation Regulations (14 CFR 21.29) and the applicable bilateral airworthiness agreement.

Under this bilateral airworthiness agreement, the CAA has kept us informed of the situation described above.

FAA's Determination and Requirements of This Proposed AD

What has FAA decided? We have examined the CAA's findings, reviewed all available information, and determined that AD action is necessary for products of this type design that are certificated for operation in the United States.

Since the unsafe condition described previously is likely to exist or develop on other Pacific Aerospace Model 750XL airplanes of the same type design that are registered in the United States, we are proposing AD action to replace any type TLP-D or TLED rivets on the aileron pushrod ends and elevator control pushrod ends, which, if not replaced, could result in loose mechanical elements in the control systems. This could lead to control anomalies and loss of airplane control.

What would this proposed AD require? This proposed AD would require you to replace any type TLP-D or TLED rivets on the aileron pushrod ends and elevator control pushrod ends.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many airplanes would this proposed AD impact? We estimate that this proposed AD affects 6 airplanes in the U.S. registry.

What would be the cost impact of this proposed AD on owners/operators of the affected airplanes? We estimate the following costs to do this proposed replacement of any type TLP-D or TLED rivets on the aileron pushrod ends and elevator control pushrod ends:

Labor cost | Parts cost | Total cost per airplane | Total cost on U.S. Operators
6 workhours × $65 per hour = $390 | $37 for 100 Cherry Max 3213-4-2 or 3243-4-2 (oversize nominal ⅛-inch) rivets | $427 | $427 × 6 = $3,562.

The Cherry Max 3213-4-2 or 3243-4-2 rivets are available in a specially sealed 100-count package. The costs above cover this 100-count package although you may need less than 100 rivets.

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket FAA-2004-19444; Directorate Identifier 2004-CE-33-AD” in your request.

This proposed rulemaking is promulgated under the authority in Subtitle VII, Part A, Subpart III, Section 44701, General requirements. Under that section, the FAA is charged with prescribing minimum standards required in the interest of safety for the design of aircraft. This proposed regulation is within the scope of that authority since it corrects an unsafe condition in the design of the aircraft caused by type TLP-D or TLED rivets, which, if not replaced, could result in loose mechanical elements in the control systems. This could lead to control anomalies and loss of airplane control.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Pacific Aerospace Corporation, Ltd.: Docket No. FAA-2004-19444; Directorate Identifier 2004-CE-33-AD

When Is the Last Date I can Submit Comments on This Proposed AD?

(a) We must receive comments on This proposed airworthiness directive (AD) by December 27, 2004.

What Other ADs are Affected by This Action?

(b) None.

What Airplanes are Affected by This AD?

(c) This AD affects Model 750XL airplanes, all serial numbers, that are certificated in any category.

What Is the Unsafe Condition Presented in This AD?

(d) This AD is the result of mandatory continuing airworthiness information (MCAI) issued by the airworthiness authority for New Zealand. The actions specified in this AD are intended to replace any type TLP-D or TLED rivets on the aileron pushrod ends and elevator control pushrod ends, which, if not replaced, could result in loose mechanical elements in the control systems. This could lead to control anomalies and loss of airplane control.

What Must I Do To Address This Problem?

(e) To address this problem, you must do the following:

Actions | Compliance | Procedures
(1) Replace any type TLP-D or TLED rivets on the aileron pushrod ends and elevator control pushrod ends with a new Cherry Max 3213-4-2 or 3243-4-2 (oversize nominal ⅛-inch) rivet | With 50 hours time-in-service (TIS) after the effective date of this AD, unless already done | Follow the ACCOMPLISHMENT INSTRUCTIONS in Pacific Aerospace Corporation Mandatory Service Bulletin No. PACSB/XL/007, dated June 22, 2004.
(2) Do not install: (i) any type TLP-D or TLED rivets on the aileron pushrod ends and elevator control pushrod ends; or (ii) any aileron pushrods or elevator control pushrods with type TLP-D or TLED rivets on the ends | As of the effective date of this AD | Not Applicable.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Karl Schletzbaum, Aerospace Engineer, Small Airplane Directorate, 901 Locust, Room 302, Kansas City, MO 64106; telephone: (816) 329-4146; facsimile: (816) 329-4090.

Is There Other Information That Relates to This Subject?

(g) New Zealand Airworthiness Directive Number DCA/40XL/1, dated June 24, 2004, also addresses the subject of this AD.

May I Get Copies of the Documents Referenced in This AD?

(h) To get copies of the documents referenced in this AD, contact Pacific Aerospace Corporation, Ltd., Hamilton Airport, Private Bag HN 3027, Hamilton, New Zealand; telephone: 64 7 843 6144; facsimile: 64 7 843 6134. To view the AD docket, go to the Docket Management Facility; U.S. Department of Transportation, 400 Seventh Street, SW., Nassif Building, Room PL-401, Washington, DC, or on the Internet at http://dms.dot.gov. This is docket number FAA-2004-19444.

Issued in Kansas City, Missouri, on November 15, 2004.
Scott L. Sedgwick,
Acting Manager, Small Airplane Directorate, Aircraft Certification Service.

[FR Doc. 04-25795 Filed 11-19-04; 8:45 am]

BILLING CODE 4910-13-P